DEPARTMENT OF TRANSPORTATION

National Highway Traffic Safety Administration

Denial of Motor Vehicle Defect Petition

AGENCY: National Highway Traffic Safety Administration (NHTSA), Department of Transportation.

ACTION: Denial of motor vehicle defect petition.

SUMMARY: This notice sets forth the reasons for the denial of a September 13, 2000 petition submitted to NHTSA under 49 U.S.C. 30162 by Beverly Mulder, requesting that the agency commence a proceeding to determine the existence of a defect related to motor vehicle safety in certain multi-axle trailers manufactured by the Fruehauf Trailer Corporation (Fruehauf) in 1995 and 1996. After reviewing the petition and other information, NHTSA has concluded that further expenditure of the agency's investigative resources on the issues raised by the petition does not appear to be warranted. The agency accordingly has denied the petition.

FOR FURTHER INFORMATION CONTACT: Mr. Richard Boyd, Chief, Vehicle Control Division, Office of Defects Investigation (ODI), Office of Safety Assurance, NHTSA, 400 Seventh Street, SW., Washington, DC 20590. Telephone: (202) 366-1690.

SUPPLEMENTARY INFORMATION: On September 13, 2000, Ms. Beverly Mulder submitted a petition requesting that the agency investigate certain alleged defects in multi-axle trailers that were custom-built for the petitioner by Fruehauf in late 1995 and early 1996. The petitioner owns four of these trailers. The petitioner alleged that the trailers “sway violently side to side when they are loaded. They cannot be held on the road when there is a curve and when there is a heavy side wind. The units will be blown off the road or across the road if hit with (sic) by a wind gust.”

The petitioner had four trailers custom-built by Fruehauf in anticipation of obtaining a contract to haul drywall. The trailers were purchased through Michigan Trailer Sales (MTS) located in Grand Haven, Michigan, Two trailers were purchased in late 1995 and the remaining two were purchased in 1996. ODI was unable to contact Fruehauf directly due to bankruptcy and judicial dissolution in 1998. However, information obtained by ODI indicates that only six trailers were built to these particular technical specifications.

The trailers are referred to as “sled six axle trailers.” They are approximately 50 feet long and 102 inches wide. The units have six axles, with the front four axles using a Granning Air Ride Air Lift Suspension system. (The vast majority of trailers used in Class 8 tractor/trailer combinations are semi-trailers, with only two axles, which are located at the rear of the vehicle.) The trailers were built to carry 90,000 to 95,000 pounds and, therefore, require a special permit to operate when fully loaded, since the maximum load for a tractor/trailer combination in the United States is normally 80,000 pounds. The trailers were originally intended to carry loads of drywall stacked 13.5 feet high. This would result in a relatively high center of gravity.

Ms. Mulder and her husband alleged that the trailers do not handle well. Specifically, she stated that “the loads shift and that the trailers wobble and lean dangerously going into curves, any amount of wind will blow them off the road altogether.” There are no allegations of any crashes as a result of this problem.

ODI has obtained and reviewed numerous written communications between the Mulders and MTS concerning the handling allegations, demands for corrective action, and demands that the trailers be re-purchased. NHTSA's authority lies with Fruehauf, the trailer manufacturer. We have no authority over disputes with dealers or buy-back issues.

During the course of our investigation we found that the manufacturer of the subject trailers, Fruehauf, was judicially dissolved by the United States Bankruptcy Court for the District of Delaware on October 27, 1998. Although Fruehauf sold its domestic trailer manufacturing and domestic sales and distribution business to Wabash National Corporation (Wabash) in the course of the bankruptcy proceeding, the Bankruptcy Court's Order of May 26, 1999, declared that Wabash was not to be subject to any claims asserting successor liability for products made by Fruehauf. Therefore, there is no entity to which NHTSA could issue a recall order, even if a safety-related defect were found to exist.

In view of the fact that it would require extensive resources to fully evaluate the alleged problem, the fact that there are very few vehicles at issue, and the fact that we would be unable to compel any entity to conduct a recall even if we were to determine that a defect exists, further expenditure of the agency's investigative resources on the allegations in the petition is not warranted. Therefore, the petition is denied.

Authority: 49 U.S.C. 30162(d); delegation of authority at CFR 1.50 and 501.8.

Issued on April 4, 2001.
Kenneth N. Weinstein,
Associate Administrator for Safety Assurance.

[FR Doc. 01-8944 Filed 4-10-01; 8:45 am]

BILLING CODE 4910-59-M